DEPARTMENT OF ENERGY

Office of Energy Efficiency and Renewable Energy

Executive Summit on Hydropower Research and Development

AGENCY: Water Power Technologies Office, Office of Energy Efficiency and Renewable Energy, U.S. Department of Energy.

ACTION: Notice of the Executive Summit for Hydropower Research and Development.

SUMMARY: This notice serves to announce that the Water Power Technologies Office (WPTO) within the U.S. Department of Energy (DOE) intends to hold an Executive Summit on Hydropower Research and Development (“Summit”) in Washington, DC on May 4, 2017. Through this initiative, the WPTO intends to engage industry and researchers to articulate hydropower industry research and development (R&D) needs, discuss capabilities of the national laboratories, and provide guidance to industry on how to engage with the national laboratories to accelerate innovation and achieve bottom-line results.

DATES: DOE will host the Summit from 7:30 a.m. to 7:00 p.m. on May 4, 2017.

ADDRESSES: The Summit will be held at The National Press Club, 529 14th St NW., Washington, DC 20045.

FOR FURTHER INFORMATION CONTACT: Alexsandra Lemke, Office of Energy Efficiency and Renewable Energy, U.S. Department of Energy, 1000 Independence Ave. SW., Washington, DC 20585. Telephone: (720)-648-4381. Email: Alexsandra.Lemke@EE.DOE.Gov.

SUPPLEMENTARY INFORMATION:

Background

The Executive Summit provides a premier opportunity to learn how DOE-funded research at the national laboratories and beyond is addressing the hydropower industry's R&D needs—and how companies can directly partner with the labs to accelerate innovation and achieve bottom-line results. The Summit will bring together hydropower industry executives, government leaders, and technology researchers to showcase how private-sector and national lab partnerships are successfully addressing critical technology challenges to improve the competitiveness of American hydropower businesses across the country. Invited participants from industry will include design, consulting, assessment, and operations professionals with experience in addressing the short- and long-term challenges of hydropower development and operations.

The information provided and discussed throughout this summit will be compiled in a summary report, which will provide clarity on how the capabilities of DOE's National Laboratories and other DOE Hydropower Program resources align with the perceived and prioritized R&D needs of the industry as outlined in the recently-published DOE Hydropower Vision. The Vision includes a roadmap outlining potential actions, in a non-prescriptive manner, for consideration by all hydropower stakeholder sectors. The workshop sessions will address four primary categories of R&D activities included in the roadmap: (1) Enhanced Revenue and Market Structures, (2) Optimization of Hydropower Security, Reliability, and Value Sustainable Development and Operation, (3) Addressing Hydropower Sustainability Optimization of Hydropower, and (4) Technology Advancement for Hydropower. The remaining categories of the Roadmap, Regulatory Process Optimization and Enhanced Collaboration, Education, and Outreach, will be addressed in the workshop as cross-cut issues to connect activities in the first three categories.

Public Participation

The event is open to the public based upon space availability. DOE will also accept public comments as described above for purposes of better understanding the hydropower industry and challenges associated with increased deployment. These comments may be submitted at Alexsandra.Lemke@EE.DOE.Gov.

Participants should limit information and comments to those based on personal experience, individual advice, information, or facts regarding this topic. It is not the object of this session to obtain any group position or consensus from the meeting participants.

Following the meeting, a summary will be compiled by DOE and posted for public comment. For those interested in providing additional public comment, the summary will be posted at water.energy.gov.

Issued on March 30, 2017 in Washington, DC.
Alejandro Moreno,
Director, Water Power Technologies Office, Office of Energy Efficiency and Renewable Energy.

[FR Doc. 2017-06859 Filed 4-5-17; 8:45 am]

BILLING CODE 6450-01-P